DEPARTMENT OF JUSTICE

Foreign Claims Settlement Commission

Privacy Act of 1974; Systems of Records

AGENCY: Foreign Claims Settlement Commission; Justice.

ACTION: Revisions of Notice of Privacy Act Systems of Records.

SUMMARY: Pursuant to the provisions of the Privacy Act of 1974, 5 U.S.C. 552a, notice is given that the Foreign Claims Settlement Commission proposes to modify all of its Privacy Act Systems of Records, as identified in the revised Table of Contents set forth below, to include a new routine use that allows disclosure to appropriate persons and entities for purposes of response and remedial efforts in the event that there has been a breach of the data contained in the systems. This routine use will facilitate an effective response to a confirmed or suspected breach by allowing for disclosure to those individuals affected by the breach, as well as to others who are in a position to assist in the Department's response efforts, either by assisting in notification to affected individuals or otherwise playing a role in preventing, minimizing, or remedying harms from the breach.

In accordance with 5 U.S.C. 552a(e)(4) and (11), the public is given a 30-day period in which to comment; and the Office of Management and Budget (OMB), which has oversight responsibility under the Privacy Act, requires a 40-day period in which to conclude its review of the systems. Therefore, please submit any comments by December 26, 2006. The public, OMB, and the Congress are invited to submit any comments to David E. Bradley, Chief Counsel, Foreign Claims Settlement Commission, Washington, DC 20579 (Room 6002, Bicentennial Building). In accordance with 5 U.S.C. 552a(r), the Commission has provided a report to OMB and the Congress.

This Notice also includes an updated Table of Contents of the Commission's Privacy Act Systems of Records, in order to reflect the deletion of four of its records systems: Justice/FCSC-2, Bulgaria, Claims Against (2nd Program); Justice/FCSC-13, Italy, Claims Against (2nd Program); Justice/FCSC-18, Rumania, Claims Against (2nd Program); and Justice/FCSC-20, Yugoslavia, Claims Against (2nd Program), due to the release of the records in those systems to the National Archives for permanent retention.

1. Accordingly, pursuant to the provisions of 5 U.S.C. 552a, the Foreign Claims Settlement Commission hereby publishes notice of its proposal to supplement the list of Routine Uses of the Records Maintained in each of its Privacy Act Systems of Records, including the Categories of Users and the Purposes of Such Uses, by including the following additional Routine Use: “Release to appropriate agencies, entities, and persons when (1) It is suspected or confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.”

2. In addition, the Commission hereby publishes a revised Table of Contents of the systems of records as currently maintained by the agency, as set forth below. This Table of Contents replaces the Table of Contents included as part of the Privacy Act Systems of Records Notice published by the Foreign Claims Settlement Commission in the Federal Register on June 10, 1999 (64 FR 31296). With the exception of the deletions reflected in this revised Table of Contents, the information in that Notice remains accurate and up-to-date.

Table of Contents (Revised)

Justice/FCSC-1, Indexes of Claimants (Alphabetical)

Justice/FCSC-3, Certifications of awards

Justice/FCSC-4, China, Claims Against

Justice/FCSC-5, Civilian Internees (Vietnam)

Justice/FCSC-6, Correspondence (General)

Justice/FCSC-7, Correspondence (Inquiries Concerning Claims in Foreign Countries)

Justice/FCSC-8, Cuba, Claims Against

Justice/FCSC-9, Czechoslovakia, Claims Against (2nd Program)

Justice/FCSC-10, East Germany, Registration of Claims Against

Justice/FCSC-11, Federal Republic of Germany, Questionnaire Inquiries from

Justice/FCSC-12, Hungary, Claims Against (2nd Program)

Justice/FCSC-14, Micronesia, Claims Arising in

Justice/FCSC-16, Prisoners of War (Pueblo)

Justice/FCSC-17, Prisoners of War (Vietnam)

Justice/FCSC-19, Soviet Union, Claims Against

Justice/FCSC-21, German Democratic Republic, Claims Against

Justice/FCSC-23, Vietnam, Claims for Losses Against

Justice/FCSC-24, Ethiopia, Claims for Losses Against

Justice/FCSC-25, Egypt, Claims Against

Justice/FCSC-26, Albania, Claims Against

Justice/FCSC-27, Germany, Holocaust Survivors' Claims Against

Justice/FCSC-28, Iraq, Registration of Potential Claims Against

Mauricio J. Tamargo,
Chairman.

[FR Doc. E6-19061 Filed 11-13-06; 8:45 am]

BILLING CODE 4410-BA-P